DEPARTMENT OF AGRICULTURE

Rural Housing Service

Notice of Funding Availability (NOFA): Section 515 Rural Rental Housing Program for New Construction or Purchase and Rehabilitation of Existing Rural Multi-Family Properties in Fiscal Year 2011

AGENCY: Rural Housing Service (RHS), USDA.

ACTION: Notice.

SUMMARY: U.S. Department of Agriculture (USDA) Rural Development administers the programs of the RHS. This NOFA announces the timeframe to submit pre-applications for Section 515 Rural Rental Housing (RRH) loan funds, including pre-applications for the nonprofit set-aside for eligible nonprofit entities, set-aside for Rural Economic Area Partnership (REAP), and the set-aside for the most Underserved Counties and Colonias (Cranston-Gonzalez National Affordable Housing Act).

This document describes the methodology that will be used to distribute funds, the application process, submission requirements, and areas of special emphasis or consideration. For FY 2011, the Agency will provide additional scoring points to those proposals involving energy initiatives.

DATES: The deadline for receipt of all pre-applications in response to this NOFA is 5 p.m., local time for each USDA Rural Development State Office, 45 days from the published date of this Notice. The pre-application closing deadline is firm as to date and hour. USDA Rural Development will not consider any pre-application that is received after the closing deadline. Applicants intending to mail pre-applications must provide sufficient time to permit delivery on or before the closing deadline date and time. Acceptance by the United States Postal Service or private mailer does not constitute delivery. Facsimile (FAX) and postage due pre-applications will not be accepted.

FOR FURTHER INFORMATION CONTACT: Applicants may contact the applicable Rural Development State Office serving the State where the project will be built in order to submit a pre-application. The State Office will provide further information pertaining to the application process, copy of the initial application package, and a list of designated places established under 7 CFR 3560.57 for new Section 515 facilities. A listing of USDA Rural Development State Offices, addresses, telephone numbers, and contact person can be found below in Section XI of this Notice.

For general information, applicants may contact Melinda Price, Finance and Loan Analyst, Multi-Family Housing Preservation and Direct Loan Division, Rural Housing Service, U.S. Department of Agriculture, Federal Building Room 507, 200 North High St., Columbus, Ohio 43215-2418, telephone (614) 255-2403 (not a toll free number), or (800) 877-8339 (TDD-Federal Information Relay Service), or via e-mail melinda.price@wdc.usda.gov.

For questions regarding design and construction project delivery methods, questions about any of the energy efficiency and environmental sustainability programs, as well as questions about design and construction contracts should be directed to Carlton Jarratt, Finance and Loan Analyst, Multi-Family Housing Preservation and Direct Loan Division, Rural Housing Service, U.S. Department of Agriculture, Culpeper Building, Suite 121, 1606 Santa Rosa Road, Richmond, Virginia 23229, telephone (804) 287-1524 (not a toll free number) or (800) 877-8339 (TDD-Federal Information Relay Service), or via e-mail carlton.jarratt@wdc.usda.gov.

SUPPLEMENTARY INFORMATION:

Programs Affected

The RRH program is listed in the Catalog of Federal Domestic Assistance under Number 10.415, Rural Rental Housing Loans. Rental Assistance is listed in the Catalog under Number 10.427, Rural Rental Assistance Payments.

Paperwork Burden Act

The information collection requirements contained in this Notice have received approval from the Office of Management and Budget (OMB) under Control Number 0570-0190.

Overview

Funding Opportunity Title: Notice of Funding Availability (NOFA): Section 515 Rural Rental Housing Program for New Construction or Purchase and Rehabilitation of Existing Rural Multi-Family Properties in Fiscal Year 2011.

Announcement Type: Inviting pre-applications from eligible applicants for Fiscal Year (FY) 2011 funding.

Catalog of Federal Domestic Assistance Number (CFDA): 10.415 and 10.427.

DATES: The deadline for receipt of all pre-applications in response to this NOFA is 5 p.m., local time for each USDA Rural Development State Office, August 29, 2011. The initial application closing deadline is firm as to date and hour. USDA Rural Development will not consider any pre-application that is received after the closing deadline. Applicants intending to mail pre-applications must provide sufficient time to permit delivery on or before the closing deadline date and time. Acceptance by the United States Postal Service or private mailer does not constitute delivery. Facsimile (FAX) and postage due pre-applications will not be accepted.

The Department of Defense and Full Year Continuing Appropriation Act, 2011 (Pub. L. 112-20), (April 15, 2011) details the level of funding for the remainder of fiscal year 2011. The Section 515 Multi-Family Housing (MFH) program is authorized by the Housing Act of 1949, as amended (42 U.S.C. 1485) and provides Rural Development with the authority to make loans for low-income MFH.

Program Administration

I. Authorities

Section 515 of the Housing Act of 1949, as amended, (42 U.S.C. 1485) provides USDA Rural Development with the authority to make loans to any individual, corporation, association, trust, Indian Tribe, public or private nonprofit organization, which may include a faith-based or community organization, consumer cooperative, or partnership to provide rental or cooperative housing and related facilities in rural areas for very-low, low, or moderate income persons or families, including elderly persons and persons with disabilities. Rental assistance (RA) is a tenant subsidy for very-low and low-income families/persons residing in rural rental housing facilities with USDA Rural Development financing. $2,025,940 in RA will be available for new construction in Fiscal Year (FY) 2011.

II. Description of 515 Funding Opportunity

The total amount available for FY 2011 for Section 515 Funding is $18,036,667.89:

Non-Restricted | $12,036,667.89
Set-aside for non-profits | 2,000,000.00
Set-aside for Underserved Counties and Colonias | 2,000,000.00
Set-aside for REAP Zones | 2,000,000.00
Total for Section 515 New Construction | 18,036,667.89

All pre-applications for funding must qualify under one of the three Set-asides or as a Non-restricted. Qualifications for the Set-asides are described in paragraph VII below. Those pre-applications with the highest scores will be funded first. Any unused funds will revert to non-restricted status by September 15, 2011.

III. Award information

A. Individual loan requests should not exceed $1 million. This applies to regular Section 515 funds and set-aside funds.

B. No State may receive more than 20 percent of the total amount available, including set-aside funds.

IV. Eligibility Information

Applicants must meet the eligibility criteria as determined under 7 CFR 3560.55.

V. Pre-Application and Submission Information

A. Pre-application Requirements: All pre-applications must meet the requirements of 7 CFR 3560.56, as well as comply with the provisions of this Notice. Pre-applications can be submitted either electronically using the Section 515 Pre-application form as found at (http://www.rurdev.usda.gov/rhs/mfh/MPR/MPRHome.htm) or as a hard copy with the appropriate Rural Development State Office where the project will be located.

Note: Submission of the electronic Section 515 Pre-application form does not constitute submission of the entire pre-application package which requires additional forms and supporting documentation as listed in Section V of this Notice. Although applicants are encouraged to submit the pre-application form electronically, the complete package in its entirety must still be submitted to the local State Office.

Hard copy pre-applications that are submitted to a USDA Rural Development State Office will be date and time stamped to evidence timely or untimely receipt, and, upon request, provide the applicant with a written acknowledgment of receipt. A list of State Office contacts may be found in Section XI of this Notice. Incomplete pre-applications will not be reviewed and will be returned to the applicant within 30 days of receipt. No pre-application will be accepted after 5 p.m., local time, on the pre-application deadline previously mentioned unless that date and time is extended by a Notice published in the Federal Register.

Applicants are encouraged but not required, to provide an electronic copy of all hard copy forms and documents submitted in the pre-application/application package as requested by this Notice. The forms and documents must be submitted as read-only PDF Adobe Acrobat files on an electronic media such as CDs, DVDs or USB drives. For each electronic device submitted, the applicant should include a Table of Contents of all documents and forms on that device. The electronic device should be submitted to the local Rural Development MFH State Office Contact as listed in Section XI of this Notice.

Note: If you receive a loan under this Notice, USDA reserves the right to post all information not covered under the Privacy Act and submitted as part of the pre-application package on a public Web-site with free and open access to any member of the public.

B. Submission Requirements: Each pre-application shall include the information, documentation, forms and exhibits required by 7 CFR 3560.56, and the provisions of this Notice. Documents and information required in the pre-application package are described as follows:

1. Documents to establish applicant eligibility:

i. Form SF 424, “Application for Federal Assistance”.

ii. Form RD 410-9, “Statement Required by Privacy Act (for individuals)”.

iii. Form RD 400-4, “Assurance Agreement”.

iv. Form HUD 2530, “Previous Participation Certification”.

v. Current (within 6 months) financial statements with the following paragraph certified by an authorized individual, agent or representative with the legal authority to do so: “I/we certify the above is a true and accurate reflection of my/our financial condition as of the date stated herein. This statement is given for the purpose of inducing the United States of America to make a loan or to enable the United States of America to make a determination of continued eligibility of the applicant for a loan as requested in the loan application of which this statement is a part.”

vi. Check for $28 from individual applicants, and $40 from entity applicants made out to U.S. Department of Agriculture. This will be used to pay for credit reports obtained by the USDA Rural Development.

vii. Statement signed by applicants that they will pay any cost overruns.

viii. If an entity applicant is selected for further processing, the Agency will require additional documentation as set forth in a Conditional Commitment in order to verify the entity has the legal and financial capability to carry out the obligations of the loan.

2. Documents to establish project feasibility. The applicant must provide the following:

i. Market feasibility documentation: Either a market study or a market survey, as appropriate.

ii. Type of project and structures proposed (total number of units by bedroom size, size of each unit type, size and type of other facilities).

iii. Schematic drawings: (Because projects are expected to be in pre-design or very early schematic design for pre-application purposes, these drawings may be prepared only as preliminary sketches. It is expected that teams will be working in an integrated design method and therefore there will be changes to these sketches to meet energy-efficiency goals, if any).

(a) Site plan, including contour lines; floor plan of each living unit type and other spaces, such as laundry facilities, community rooms, stairwells, etc.;

(b) Building exterior elevations;

(c) Typical building exterior wall section; and

(d) Plot plan.

iv. Description and justification of related facilities, and a schedule of separate charges for related facilities. Related facilities include community rooms that can be used by tenants and management at no additional charge to the tenants.

v. Type and method of construction (owner builder, negotiated bid, or contractor method).

vi. Statement of estimated costs (Form RD 1924-13, “Estimate and Certificate of Actual Costs”). The selection of the contractor must be done through the process established in 7 CFR part 1924.

vii. Statement of proposed management.

viii. Congregate services package/plan (if applicable).

ix. Statement of support from other Government services providers to the project (congregate housing only).

x. Response to the Uniform Relocation Assistance Act (if applicable).

xi. In order to receive points for energy initiatives, the pre-application must include resumes of qualified professionals, plans for an initial design charette and post-construction operations, and maintenance training for property managers, site managers and tenants.

3. Documents for project financing. The applicant must provide the following:

i. Statement of budget and cash flow (applicant completes Form RD 3560-7, “Multiple Family Housing Project Budget/Utility Allowance”), including type of utilities and utility allowance, if applicable, and any contribution to the reserve account.

ii. Congregate services charges (if applicable).

iii. Status of efforts to obtain leveraged funds.

iv. Proposed construction financing (interim or multiple advances; if interim financing, letter of interest from intended lender).

4. Documents for environmental and site information:

i. Form RD 1940-20, “Request for Environmental Information”.

ii. Evidence of compliance with Executive Order 12372 (A-95) (if applicable). Form SF 424 is sent to a clearinghouse for intergovernmental review.

iii. A copy of the American Society for Testing and Materials (ASTM) Phase I Environmental Site Assessment to cover environmental due diligence. The ASTM Phase I Environmental Site Assessment will be obtained from the company or person who performs the environmental site assessment.

iv. Map showing location of community services such as schools, hospitals, fire and police departments, shopping malls and employment centers.

v. Evidence of submission of the project description to the State Housing Preservation Office with request for comments.

vi. The applicant's comments regarding relevant offsite conditions that may impact the project.

vii. The applicant's explanation of any proposed energy efficiency components.

5. Fillable forms to be included in the pre-application package may be found at the following links:

i. Form SF 424, Application for Federal Assistance, which can be found online at: http://www.cops.usdoj.gov/files/ric/publications/sf-424.pdf.

ii. Form RD 1940-20, “Request for Environmental Information”, which can be found online at: http://forms.sc.egov.usda.gov/efcommon/eFileServices/eForms/RD1940-20.PDF;

iii. Form HUD 2530, Previous Participation Certification, which can be found online at: http://www.hud.gov/offices/adm/hudclips/forms/files/2530.pdf;

iv. Form RD 1924-13, “Estimate and Certificate of Actual Costs”, which can be found online at: http://forms.sc.egov.usda.gov/efcommon/eFileServices/eForms/RD1924-13.PDF;

v. Form RD 400-4, “Assurance Agreement”, which can be found online at: http://forms.sc.egov.usda.gov/efcommon/eFileServices/eForms/RD400-4.PDF.

The following required forms are fillable and are available online but require e-authentication access. If the applicant does not have e-authentication access, the applicable State Office (Section XI) must be contacted for instructions and permission to obtain access or a copy of the form.

vi. Form RD 3560-7, “Multiple Family Housing Project Budget/Utility Allowance”: https://formsadmin.sc.egov.usda.gov/efcommon/eFileServices/Forms/RD3560-0007_060500V01.pdf;

vii. Form RD 410-9, “Statement Required by the Privacy Act” (for individuals only) https://formsadmin.sc.egov.usda.gov/efcommon/eFileServices/Forms/RD0410-0009.pdf.

Applicants are encouraged, but not required, to include a checklist and to have their pre-applications indexed and tabbed to facilitate the review process. The local Rural Development State Office will base its determination of completeness of the pre-application and the eligibility of each applicant on the information provided in the pre-application. All applicants will receive a letter notifying them of their selection or rejection for further processing. Applicants that are selected will be given instructions on how to proceed, following the procedures established in 7 CFR part 3560. Applicants that are not selected will be provided appeal rights under 7 CFR part 11.

VI. Selection Process

An amount of $12,036,667.89 is available for Section 515 non-restricted funding. Pre-applications will be accepted for loan requests to finance the new construction of a Section 515 property, or the purchase and substantial rehabilitation of non-program RRH and related facilities in rural areas. Pre-applications will be assigned points and will be scored based upon certain criteria as described in the following paragraphs of this section. Pre-applications will then be ranked on a national basis and selected for further processing in rank order.

Pre-applications will receive points for the following:

A. Energy Initiatives Properties may receive a maximum of 42 points for energy initiatives. Properties will be classified into two categories for the purposes of scoring: New Construction and Purchase and Rehabilitation. Points can only be earned under one of these categories. Properties in either category also may receive points for Energy Generation and Green Property Management.

1. Energy Conservation for New Construction (maximum 32 points). New construction projects may be eligible for up to 32 points when the pre-application includes a written certification by the applicant to participate in the following energy efficiency programs. The points will be allocated as follows:

i. Participation in the Department of Energy's Energy Star for Homes program (10 points). http://www.energystar.gov/index.cfm?c=bldrs_lenders_raters.nh_multifamily_units.

ii. Participation in the Green Communities program by the Enterprise Community Partners. (10 points) http://www.enterprisecommunity.org.

iii. Participation in one of the following two programs will be awarded points for certification.

Note: Each program has four levels of certification. State the level of certification that the applicant plans will achieve in their certification:

(a.) LEED for Homes program by the United States Green Building Council (USGBC): http://www.usgbc.org/homes.

(1) Certified Level (4 points), OR

(2) Silver Level (6 points), OR

(3) Gold Level (8 points), OR

(4) Platinum Level (10 points), OR

(b.) The National Association of Home Builders (NAHB) ICC 700-2008 National Green Building Standard TM: http://www.nahb.org.

(1) Bronze Level (4 points), OR

(2) Silver Level (6 points), OR

(3) Gold Level (8 points), OR

(4) Emerald Level (10 points).

iv. Participation in local green/energy efficient building standards; Applicants, who participate in a city, county or municipality program, will receive an additional 2 points. The applicant should be aware of and look for additional requirements that are sometimes embedded in the third-party program's rating and verification systems. (2 points)

2. Energy Conservation for Purchase and Substantial Rehabilitation of an Existing Multifamily Property (maximum 32 points). Pre-applications for the purchase and substantial rehabilitation of non-program MFH and related facilities in rural areas may be eligible to receive 32 points for the following initiatives.

Note: If you are participating in (i.) the Green Communities program, you may not receive additional points for items listed under (ii.). In other words, you may participate in (i.) and (iii.) or (ii.) and (iii.), but not all three:

i. Participation in the Green Communities program by the Enterprise Community Partners, http://www.enterprisecommunity.org, will be awarded 30 points for any project that qualifies for the program. (30 points) At least 30 percent of the points needed to qualify for the Green Communities program must be earned under the Energy Efficiency section of the Green Communities qualification program.

OR,

ii. Energy conservation points can be awarded for the following energy conservation measures only when the applicant is not enrolled in Green Communities and conservation measures are listed in the preliminary plans for substantial rehabilitation. (maximum 20 points).

(a) Replacement of heating, ventilation and air conditioning (HVAC) equipment with Energy Star qualified heating, ventilation and air conditioning (HVAC) equipment. (3 points).

(b) Replacement of windows and doors with Energy Star qualified windows and doors. (3 points).

(c) Additional insulation is added to the property to exceed the required R-Value of those building elements in that area of the country per the International Energy Conservation Code 2009. Two points will be awarded if all exterior walls exceed insulation code and 1 point will be awarded if attic insulation exceeds code for a maximum of 3 points. (3 points total).

(d) Reduction in building shell air leakage by at least 15% as determined by pre- and post-rehab blower door testing on a sample of units. Building shell air leakage may be reduced through materials such as caulk, spray foam, gaskets, and house-wrap. Sealing of duct work with mastic, foil-backed tape, or aerosolized duct sealants can also help reduce air leakage. (3 points).

(e) 100 percent of installed appliances and exhaust fans are Energy Star qualified. (2 points).

(f) 100 percent of installed water heaters as Energy Star qualified. (2 points).

(g) 100 percent of toilets with flush capacity of more than 1.6 gallon flush capacity are replaced with new toilets with 1.6 gallon capacity or less, with EPA Water Sense label. (1 point).

(h) 100 percent of showerheads are replaced with new showerheads with EPA Water Sense label. (1 point).

(i) 100 percent of faucets are replaced with new faucets with EPA Water Sense label. (1 point).

(j) 100 percent Energy-efficient lighting including Energy Star qualified fixtures, compact fluorescent replacement bulbs in standard incandescent fixtures, and Energy Star Ceiling Fans. (1 point).

and,

iii. Participation in local green/energy efficient building standards. Applicants, who participate in a city, county or municipality program, will receive an additional 2 points. The applicant should be aware of and look for additional requirements that are sometimes embedded in the third-party program's rating and verification systems. (2 points).

3. Energy Generation (maximum 5 points). Pre-applications for new construction or purchase and substantial rehabilitation of non-program multi-family projects which participate in the Green Communities program by the Enterprise Community Partners or receive at least 8 points for Energy Conservation measures are eligible to earn additional points for installation of on-site renewable energy sources. Renewable, on-site energy generation will compliment a weathertight, well insulated building envelope with highly efficient mechanical systems. Possible renewable energy generation technologies include, but are not limited to: wind turbines and micro-turbines, micro-hydro power, photovoltaics (capable of producing a voltage when exposed to radiant energy, especially light), solar hot water systems and biomass/biofuel systems that do not use fossil fuels in production. Geo-exchange systems are highly encouraged as they lessen the total demand for energy and, if supplemented with other renewable energy sources, can achieve zero energy consumption more easily. Points under this section will be awarded as follows. Projects with preliminary or rehabilitation building plans and energy analysis propose a 10 percent to 100 percent energy generation commitment (where generation is considered to be the total amount of energy needed to be generated on-site to make the building a net-zero consumer of energy) may be awarded points corresponding to their percent of commitment as follows:

(a) 0 to 9 percent commitment to energy generation receives 0 points;

(b) 10 to 29 percent commitment to energy generation receives 1 point;

(c) 30 to 49 percent commitment to energy generation receives 2 points;

(d) 50 to 69 percent commitment to energy generation receives 3 points;

(e) 70 to 89 percent commitment to energy generation receives 4 points;

(f) 90 percent or more commitment to energy generation receives 5 points. In order to receive more than 1 point for this energy generation section, an accurate energy analysis prepared by an engineer will need to be submitted with the pre-application. Energy analysis of preliminary building plans using industry-recognized simulation software must document the projected total energy consumption of the building, the portion of building consumption which will be satisfied through on-site generation, and the building's Home Energy Rating System (HERS) score.

4. Property Management Credentials (5 points). Projects may be awarded an additional 5 points if the designated property management company or individuals that will assume maintenance and operations responsibilities upon completion of construction work have a Credential for Green Property Management. Credentialing can be obtained from the National Apartment Association (NAA), National Affordable Housing Management Association, the Institute for Real Estate Management, U.S. Green Building Council's Leadership in Energy and Environmental Design for Operations and Maintenance (LEED OM), or another source with a certifiable credentialing program. Credentialing must be illustrated in the resume(s) of the property management team and included with the pre-application. (5 points).

B. Leverage Assistance

The presence and extent of leveraged assistance for the units that will serve USDA Rural Development income-eligible tenants at basic rents, as defined in 7 CFR section 3560.11, comparable to those rents if USDA Rural Development provided full financing, computed as a percentage of the USDA Rural Development total development cost (TDC). Each of the environmental conservation programs mentioned under VI(A) may include grants and additional funding. This funding is also considered leveraged assistance and can receive points under this section. Also, funding sources for energy-efficiency in each State can be found at: http://www.dsireusa.org/. Loan proposals that include leveraged/secondary funds which have been requested, but have not yet been committed, will be processed as follows: The proposal will be scored based on the requested secondary funds, provided the applicant includes evidence of a filed application for the secondary funds; and the funding date of the requested secondary funds will permit processing of the loan request in the current funding cycle, or, if the applicant does not receive the requested funds, will permit processing of the next highest ranked proposal in the current year. Points will be awarded in accordance with the following table. Percentages will be rounded to the next higher whole number. (0 to 30 points).

Number of Points | Description % of Leveraging
30 | 150% or more
25 | 100-149%
20 | 50-99%
15 | 1-49%

C. Colonia, Tribal land, or Rural Economic Area Partnership (REAP) Community

The units to be developed are in a colonia, Tribal land, or Rural Economic Area Partnership (REAP) community, or in a place identified in the State Consolidated Plan or State Needs Assessment as a high need community for MFH. (20 points).

D. Special Initiatives and MOU

Pursuant to 7 CFR Section 3560.56 (c)(1)(iii), a National Office initiative will provide points to loan requests that meet the selection criteria as follows: In States where USDA Rural Development has an on-going formal working relationship, agreement, or Memorandum of Understanding (MOU) with the State to provide state financial resources (State funds, State RA, HOME funds, Community Development Block Grant (CDBG) funds, or Low-Income Housing Tax Credits (LIHTC)) for USDA Rural Development proposals; or where the State provides preference or points to USDA Rural Development proposals in awarding such State resources, 20 points will be provided to loan requests that include such State resources in an amount equal to at least 5 percent of the TDC. Native American Housing and Self Determination Act (NAHASDA) funds may be considered a State resource if the Tribal plan for NAHASDA funds contains provisions for partnering with USDA Rural Development for MFH. The applicant can contact its USDA Rural Development State Office to determine whether a particular State falls into this initiative. (20 Points).

E. Donated Land

The loan request includes donated land meeting the provisions of 7 CFR section 3560.56(c)(1)(iv). (5 points).

F. Presidentially Declared Disaster Area

Pursuant to 7 CFR 3560.56(c)(1)(iii), points will be awarded if the property will be constructed or rehabilitated in a Presidentially declared disaster area. The area must have been Presidentially declared a disaster area in 2011. For further information on Presidentially declared disaster areas, see http://www.rurdev.usda.gov/rd/disasters/. (10 Points).

VII. Set Asides

Loan requests will be accepted for the following set-asides:

A. Non-profit set-aside. An amount of $2,000,000 has been set aside for non-profit applicants as defined in 7 CFR 3560.11. All loan proposals must be in designated places in accordance with 7 CFR section 3560.57. A State or jurisdiction may fund one proposal from this set-aside, which cannot exceed $1 million. A State could receive additional funds from this set-aside if any funds remain after the Agency funds one proposal from each participating State. The National Office will inform the State Offices if additional funds are available. If additional set-aside funds remain, each State's second highest scoring proposal will be funded. If there are insufficient funds to fund one loan request from each participating State, selection will be determined nationally by point score on each State's highest ranking proposal. This method will also be used if additional funds are available to fund more than 1 loan proposal per State where there are insufficient funds to fund a second or more proposal for each State. If there are any funds remaining, they will be handled in accordance with 42 U.S.C. 1485(w)(3). Funds from this set-aside will be available only to nonprofit entities, which may include a partnership that has as its general partner a nonprofit entity or the nonprofit entity's for-profit subsidiary which will be receiving low-income housing tax credits authorized under section 42 of the Internal Revenue Code of 1986. To be eligible for this set-aside, the nonprofit entity must be an organization that:

1. Will own an interest in the project to be financed and will materially participate in the development and the operations of the project;

2. Is a private organization that has nonprofit, tax exempt status under section 501(c)(3) or section 501(c)(4) of the Internal Revenue Code of 1986;

3. Has among its purposes the planning, development, or management of low-income housing or community development projects; and

4. Is not affiliated with or controlled by a for-profit organization.

B. Underserved Counties and Colonias Set-aside. An amount of $2,000,000 has been set aside for loan requests to develop units in the 100 most needy underserved counties or colonias as defined in section 509(f) of the Housing Act of 1949, as amended. A State or jurisdiction may fund one proposal from this set-aside, which cannot exceed $1 million. A State could receive additional funds from this set-aside if any funds remain after the Agency funds one proposal from each participating State. The National Office will inform the State Offices if additional funds are available. If additional set-aside funds remain, each State's second highest scoring proposal will be funded. If there are insufficient funds to fund one loan request from each participating State, selection will be determined nationally by point score on each State's highest ranking proposal. This method will also be used if additional funds are available to fund more than 1 loan proposal per State where there are insufficient funds to fund a second or more proposal for each State. If there are any funds remaining, they will be handled in accordance with 42 U.S.C. 1485(w)(3).

C. REAP Zone Set-aside. An amount of $2,000,000 has been set aside to develop units in a REAP zone. Loan requests that are eligible for this set-aside are also eligible for regular Section 515 funds. When requests for this set-aside exceed available funds, selection will be made in accordance with 7 CFR 3560.56(c) and ranking as described earlier in this NOFA. This set-aside is only available until June 30, 2011.

VIII. Rental Assistance (RA)

New construction RA will be available for FY 2011 in the amount of $2,025,940. New construction RA may not be used in conjunction with a transfer or subsequent loan for repairs or rehabilitation, preservation purposes or for inventory property sales.

IX. Appeal Process

Applicants that are rejected will be notified and given appeal rights under 7 CFR part 11. All adverse determinations regarding applicant's eligibility and the awarding of points as a part of the selection process are appealable. Instructions on the appeal process will be provided at the time an applicant is notified of the adverse action.

X. Equal Opportunity and Non-Discrimination Requirements

Borrowers and applicants will comply with the provisions of 7 CFR 3560.2. All housing must meet the accessibility requirements found at 7 CFR 3560.60(d). All applicants must submit or have on file a valid Form RD 400-1, “Equal Opportunity Agreement,” and Form RD 400-4, “Assurance Agreement.”

The U.S. Department of Agriculture prohibits discrimination in all of its programs and activities on the basis of race, color, national origin, age, disability, and where applicable, sex, marital status, familial status, parental status, religion, sexual orientation, political beliefs, genetic information, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Assistant Secretary for Civil Rights, Office of the Assistant Secretary for Civil Rights, 1400 Independence Avenue, SW., Stop 9410, Washington, DC 20250-9410, or call toll free at (866) 632-9992 (English) or (800) 877-8339 (TDD) or (866) 377-8642 (English Federal—Relay) or (800) 845-6136 (Spanish Federal—Relay). USDA is an equal opportunity provider, employer, and lender.

The policies and regulations contained in 7 CFR part 1901, subpart E, apply to this program.

XI. USDA Rural Development MFH State Office Contacts

Note: Telephone numbers listed are not toll-free.

Alabama State Office, Suite 601, Sterling Centre, 4121 Carmichael Road, Montgomery, AL 36106-3683, (334) 279-3618, TDD (334) 279-3495, Vann McCloud.

Alaska State Office, 800 West Evergreen, Suite 201, Palmer, AK 99645, (907) 761-7723, TDD (907) 761-8905, Cindy Jackson.

Arizona State Office, Phoenix Courthouse and Federal Building, 230 North First Ave., Suite 206, Phoenix, AZ 85003-1706, (602) 280-8768, TDD (602) 280-8706, Carol Torres.

Arkansas State Office, 700 W. Capitol Ave., Room 3416, Little Rock, AR 72201-3225, (501) 301-3250, TDD (501) 301-3063, Greg Kemper.

California State Office, 430 G Street, #4169, Davis, CA 95616-4169, (530) 792-5821, TDD (530) 792-5848, Debra Moretton.

Colorado State Office, USDA Rural Development, Denver Federal Center, Building 56, Room 2300, P.O. Box 25426, Denver, CO 80225-0426, (720) 544-2923, TDD (800) 659-2656, Mary Summerfield.

Connecticut, Served by Massachusetts State Office.

Delaware and Maryland State Office, 1221 College Park Drive, Suite 200, Dover, DE 19904, (302) 857-3615, TDD (302) 857-3585, Debra Eason.

Florida & Virgin Islands State Office, 4440 NW. 25th Place, Gainesville, FL 32606-6563, (352) 338-3465, TDD (352) 338-3499, Tresca Clemmons.

Georgia State Office, Stephens Federal Building, 355 E. Hancock Avenue, Athens, GA 30601-2768, (706) 546-2164, TDD (706) 546-2034, Wayne Rogers.

Hawaii State Office, (Services all Hawaii, American Samoa Guam, and Western Pacific), Room 311, Federal Building, 154 Waianuenue Avenue, Hilo, HI 96720, (808) 933-8305, TDD (808) 933-8321, Nate Reidel.

Idaho State Office, Suite A1, 9173 West Barnes Dr., Boise, ID 83709, (208) 378-5630, TDD (208) 378-5644, Roni Atkins.

Illinois State Office, 2118 West Park Court, Suite A, Champaign, IL 61821-2986, (217) 403-6222, TDD (217) 403-6240, Barry L. Ramsey.

Indiana State Office, 5975 Lakeside Boulevard, Indianapolis, IN 46278, (317) 290-3100 (ext. 423), TDD (317) 290-3343, Paul Neumann.

Iowa State Office, 210 Walnut Street Room 873, Des Moines, IA 50309, (515) 284-4493, TDD (515) 284-4858, Heather Honkomp.

Kansas State Office, 1303 SW. First American Place, Suite 100, Topeka, KS 66604-4040, (785) 271-2721, TDD (785) 271-2767, Mike Resnik.

Kentucky State Office, 771 Corporate Drive, Suite 200, Lexington, KY 40503, (859) 224-7325, TDD (859) 224-7422, Paul Higgins.

Louisiana State Office, 3727 Government Street, Alexandria, LA 71302, (318) 473-7962, TDD (318) 473-7655, Yvonne R. Emerson.

Maine State Office, 967 Illinois Ave., Suite 4, P.O. Box 405, Bangor, ME 04402-0405, (207) 990-9110, TDD (207) 942-7331, Bob Nadeau.

Maryland, Served by Delaware State Office.

Massachusetts, Connecticut, & Rhode Island State Office, 451 West Street, Amherst, MA 01002, (413) 253-4310, TDD (413) 253-4328, Richard Lavoie.

Michigan State Office, 3001 Coolidge Road, Suite 200, East Lansing, MI 48823, (517) 324-5192, TDD (517) 337-6795, Julie Putnam.

Minnesota State Office, 375 Jackson Street Building, Suite 410, St. Paul, MN 55101-1853, (651) 602-7812, TDD (651) 602-7830, Tom Osborne.

Mississippi State Office, Federal Building, Suite 831, 100 W. Capitol Street, Jackson, MS 39269, (601) 965-4325, TDD (601) 965-5850, Darnella Smith-Murray.

Missouri State Office, 601 Business Loop 70 West, Parkade Center, Suite 235, Columbia, MO 65203, (573) 876-0987, TDD (573) 876-9480, Rachelle Long.

Montana State Office, 2229 Boot Hill Court, Bozeman, MT 59715, (406) 585-2515, TDD (406) 585-2562, Deborah Chorlton.

Nebraska State Office, Federal Building, Room 152, 100 Centennial Mall N, Lincoln, NE 68508, (402) 437-5734, TDD (402) 437-5093, Linda Anders.

Nevada State Office, 1390 South Curry Street, Carson City, NV 89703-5146, (775) 887-1222 (ext. 25), TDD (775) 885-0633, William Brewer.

New Hampshire State Office, Concord Center, Suite 218, Box 317, 10 Ferry Street, Concord, NH 03301-5004, (603) 223-6050, TDD (603) 229-0536, Robert McCarthy.

New Jersey State Office, 5th Floor North Suite 500, 8000 Midlantic Dr., Mt. Laurel, NJ 08054, (856) 787-7740, TDD (856) 787-7784, George Hyatt, Jr.

New Mexico State Office, 6200 Jefferson St., NE, Room 255, Albuquerque, NM 87109, (505) 761-4944, TDD (505) 761-4938, Susan Gauna.

New York State Office, The Galleries of Syracuse, 441 S. Salina Street, Suite 357 5th Floor, Syracuse, NY 13202, (315) 477-6421, TDD (315) 477-6421,Michael Bosak.

North Carolina State Office, 4405 Bland Road, Suite 260, Raleigh, NC 27609, (919) 873-2055, TDD (919) 873-2003, Beverly Casey.

North Dakota State Office, Federal Building, Room 208, 220 East Rosser, PO Box 1737, Bismarck, ND 58502, (701) 530-2049, TDD (701) 530-2113, Kathy Lake.

Ohio State Office, Federal Building, Room 507, 200 North High Street, Columbus, OH 43215-2477, (614) 255-2409, TDD (614) 255-2554, Cathy Simmons.

Oklahoma State Office, 100 USDA, Suite 108, Stillwater, OK 74074-2654, (405) 742-1070, TDD (405) 742-1007, Tim Henderson.

Oregon State Office, 1201 NE Lloyd Blvd., Suite 801, Portland, OR 97232, (503) 414-3353, TDD (503) 414-3387, Rod Hansen.

Pennsylvania State Office, One Credit Union Place, Suite 330, Harrisburg, PA 17110-2996, (717) 237-2281, TDD (717) 237-2261, Martha Hanson.

Puerto Rico State Office, 654 Munoz Rivera Avenue, IBM Plaza, Suite 601, Hato Rey, PR 00918, (787) 766-5095 (ext. 249), TDD (787) 766-5332, Lourdes Colon.

Rhode Island, Served by Massachusetts State Office.

South Carolina State Office, Strom Thurmond Federal Building, 1835 Assembly Street, Room 1007, Columbia, SC 29201, (803) 253-3432, TDD (803) 765-5697, Larry D. Floyd.

South Dakota State Office, Federal Building, Room 210, 200 Fourth Street, SW., Huron, SD 57350, (605) 352-1132, TDD (605) 352-1147, Roger Hazuka or Pam Reilly.

Tennessee State Office, Suite 300, 3322 West End Avenue, Nashville, TN 37203-1084, (615) 783-1375, TDD (615) 783-1397, Don Harris.

Texas State Office, Federal Building, Suite 102, 101 South Main, Temple, TX 76501, (254) 742-9765, TDD (254) 742-9712, Scooter Brockette.

Utah State Office, Wallace F. Bennett Federal Building, 125 S. State Street, Room 4311, Salt Lake City, UT 84147-0350, (801) 524-4325, TDD (801) 524-3309, Janice Kocher.

Vermont State Office, City Center, 3rd Floor, 89 Main Street, Montpelier, VT 05602, (802) 828-6021, TDD (802) 223-6365, Heidi Setien.

Virgin Islands, Served by Florida State Office.

Virginia State Office, Culpeper Building, Suite 238, 1606 Santa Rosa Road, Richmond, VA 23229, (804) 287-1596, TDD (804) 287-1753, CJ Michels.

Washington State Office, 1835 Black Lake Blvd., Suite B, Olympia, WA 98512, (360) 704-7706, TDD (360) 704-7760, Bill Kirkwood.

Western Pacific Territories, Served by Hawaii State Office.

West Virginia State Office, Federal Building, 75 High Street, Room 320, Morgantown, WV 26505-7500, (304) 284-4872, TDD (304) 284-4836, David Cain.

Wisconsin State Office, 4949 Kirschling Court, Stevens Point, WI 54481, (715) 345-7676, TDD (715) 345-7614, Cheryl Halverson.

Wyoming State Office, PO Box 11005, Casper, WY 82602, (307) 233-6716, TDD (307) 233-6733, Timothy Brooks.

Dated: July 6, 2011.
Tammye Treviño,
Administrator, Rural Housing Service.

[FR Doc. 2011-17530 Filed 7-12-11; 8:45 am]

BILLING CODE 3410-XV-P